DEPARTMENT OF LABOR

Employment and Training Administration

Workforce Investment Act; Migrant and Seasonal Farmworker Employment and Training Advisory Committee: Notice of Meeting

Pursuant to section 10(a)(2) of the Federal Advisory Committee Act (Pub. L. 92-463) as amended, notice is hereby given of the scheduled meeting of the Migrant and Seasonal Farmworker Employment and Training Advisory Committee.

Time and Date: The meeting will begin at 9 a.m. on August 16, 2001, and continue until approximately 4:30 p.m., and will reconvene at 9 a.m. on August 17, 2001, and adjourn at close of business that day. Time is reserved from 1 p.m. to 2 p.m. on August 16, 2001, for participation and presentations by members of the public.

Place: U.S. Department of Labor, Frances Perkins Building, Room C-5525, Seminar Room 5, 200 Constitution Avenue, N.W., Washington, D.C. 20210.

Status: The meeting will be open to the public. Individuals and representatives of organizations who are unable to attend, may submit a written statement. Written statements will be entered into the meeting record and presented to the Committee for discussion. Please keep written statements as brief as possible. To ensure the written statement is received in time to be taken to the meeting, the statement should be mailed to the contact person at least 6 days prior to the meeting. Persons with disabilities, who need special accommodations should contact the telephone number provided below no less than ten days before the meeting.

Matters To Be Considered: The agenda will focus on the following topics:

Brief report of meeting of September 18 & 19, 2000 (see 65 FSR 50029 August 15, 2000)

Election of Committee Chairperson and Vice Chairperson

National Farmworker Jobs Program Youth Evaluation

Workgroup Report

Public Comment Session

FOR FURTHER INFORMATION CONTACT: Alicia Fernandez-Mott, Chief, Division of Seasonal Farmworker Programs, Office of National Programs, Employment and Training Administration, Room N-4641, 200 Constitution Avenue, NW., Washington, DC 20210. Telephone: (202) 693-3729 (this is not a toll free number).

Signed at Washington, DC, this 26th day of July 2001.
Shirley M. Smith,
Administrator, Office of Adult Services, Employment and Training Administration.

[FR Doc. 01-19403 Filed 8-2-01; 8:45 am]

BILLING CODE 4510-30-M